DEPARTMENT OF DEFENSE

Office of the Secretary

Defense Advisory Committee on Women in the Services; Notice of Federal Advisory Committee Meeting

AGENCY: Under Secretary of Defense for Personnel and Readiness, Department of Defense (DoD).

ACTION: Notice of Federal advisory committee meeting.

SUMMARY: The DoD is publishing this notice to announce that the following Federal Advisory Committee meeting of the Defense Advisory Committee on Women in the Services (DACOWITS) will take place.

DATES:

Day 1—Open to the public Tuesday, September 13, 2022 from 8 a.m. to 12:30 p.m.

Day 2—Open to the public Wednesday, September 14, 2022 from 8 a.m. to 12 p.m.

ADDRESSES: The address of the open meeting is the Association of the United States Army Conference Center, located at 2425 Wilson Boulevard, Arlington, Virginia 22201.

FOR FURTHER INFORMATION CONTACT: COL Seana Jardin, (571) 232-7415 (voice), seana.m.jardin.mil@mail.mil (email). Website: https://dacowits.defense.gov.

The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Availability of Materials for the Meeting: Additional information, including the agenda or any updates to the agenda, is available at the DACOWITS website, https://dacowits.defense.gov/. Materials presented in the meeting may also be obtained on the DACOWITS website.

Purpose of the Meeting: The purpose of the meeting is for the DACOWITS to receive briefings and have discussions on topics related to the recruitment, retention, employment, integration, well-being, and treatment of women in the Armed Forces of the United States.

Agenda:

Tuesday, September 13, 2022, from 8 a.m. to 12:30 p.m.—Welcome, Introductions, Announcements, Request for Information Status Update, Briefings, DACOWITS discussion, and a Public Comment Period.

Wednesday, September 14, 2022, from 8 a.m. to 12 p.m.—Welcome, Introductions, Announcements, Briefings, and DACOWITS discussion.

Meeting Accessibility: Pursuant to 5 U.S.C. 552b and 41 CFR 102-3.140 through 102-3.165, this meeting is open to the public, subject to availability of space, from 8 a.m. to 12:30 p.m. on September 13, 2022 and 8 a.m. to 12 p.m. on September 14, 2022.

Special Accommodations: Individuals requiring special accommodations to access the public meeting should contact Mr. Robert Bowling no later than Tuesday, September 6, 2022 so that appropriate arrangements can be made.

Written Statements: Pursuant to 41 CFR 102-3.140, and section 10(a)(3) of the FACA, interested persons may submit a written statement to the DACOWITS. Individuals submitting a written statement must submit their statement no later than 5 p.m., Tuesday, September 6, 2022 to Mr. Robert Bowling (703) 380-0116 (voice) or to robert.d.bowling1.mil@mail.mil (email). Mailing address is 4800 Mark Center Drive, Suite 04J25-01, Alexandria, VA 22350. If members of the public are interested in making an oral statement, a written statement must be submitted. If a statement is not received by Tuesday, September 6, 2022, prior to the meeting, which is the subject of this notice, then it may not be provided to or considered by the DACOWITS during this quarterly business meeting. After reviewing the written statements, the Chair and the Designated Federal Officer (DFO) will determine if the requesting persons are permitted to make an oral presentation The DFO will review all timely submissions with the DACOWITS Chair and ensure they are provided to the members of the DACOWITS.

Dated: July 25, 2022.
Aaron T. Siegel,
Alternate OSD Federal Register Liaison Officer, Department of Defense.

[FR Doc. 2022-16297 Filed 7-28-22; 8:45 am]

BILLING CODE 5001-06-P